DEPARTMENT OF AGRICULTURE

Forest Service

Off-Highway Vehicle Travel Management Plan

AGENCY: Forest Service, USDA.

ACTION: Notice of intent to prepare an environmental impact statement.

SUMMARY: The Mt. Hood National Forest (Forest) will prepare an Environmental Impact Statement (EIS) to document and disclose the potential environmental effects of establishing and designating a system of roads, trails and areas for off-highway vehicles (OHV). The Proposed Action will change OHV access through much of the Forest in order to meet the intent of the Travel Management; Designated Routes and Areas for Motor Vehicle Use; Final Rule that was published on November 9, 2005 (70 FR 216). The Proposed Action focuses on travel management within six proposed OHV areas and motorized access to dispersed (undeveloped) camping. Within each area, specific OHV routes are proposed by motor vehicle class, and new trails are proposed for construction where they would create trail loop opportunities. A Forest Plan Amendment would be required to achieve the purpose and need, and implement the Proposed Action.

DATES: Comments concerning the scope of this analysis must be received no later than October 1, 2007 to ensure they are fully incorporated into the Draft EIS. Two public meetings are scheduled as follows.

1. September 11, 2007 from 6 p.m. to 7:30 p.m. in Portland, OR.

2. September 12, 2007 from 6 p.m. to 7:30 p.m. in Hood River, OR.

ADDRESSES: Submit written comments to Jennie O'Connor, Off-Highway Vehicle Travel Management Plan Leader, Mt. Hood National Forest, 6780 Highway 35, Parkdale, Oregon 97041. Electronic comments can be submitted to comments-pacificnorthswest-mthood@fs.fed.us. The meeting locations are:

1. University Place Hotel and Conference Center in the Willamette Falls Room (310 SW Lincoln Street, Portland, OR 97201).

2. Best Western Hood River Inn in the Riverview Room (1108 East Marina Way, Hood River, OR 97031).

FOR FURTHER INFORMATION CONTACT: Jennie O'Connor, Natural Resource Planner, Mt. Hood National Forest, 6780 Highway 35, Parkdale, Oregon 97041 or by e-mailing jmoconnor@fs.fed.us or by calling (541) 352-6002 x634.

SUPPLEMENTARY INFORMATION:

Need for the Proposal

One purpose of this project is to designate routes for off-highway vehicle (OHV) use by class of vehicle (excluding over-snow vehicles) and time of year. Another purpose of this project is to determine where licensed motor vehicles will continue to be allowed to drive off roads to access dispersed (undeveloped) camping. By meeting these purposes, the Mt. Hood National Forest will comply with 36 CFR parts 212, 251, 261, and 295—Travel Management; Designated Routes and Areas for Motor Vehicle Use; Final Rule [Federal Register, Vol. 70, No. 215 (2005)] for off-highway vehicle (OHV) use. The final rule states that we “must strike an appropriate balance in managing all types of recreational activities. To this end, a designated system of roads, trails, and areas for motor vehicle use established with public involvement will enhance public enjoyment of National Forests while maintaining other important values and uses of NFS [National Forest Systems] lands” (page 28265). This National Environmental Policy Act (NEPA) process will only address OHV use and motorized access to dispersed camping; subsequent NEPA processes may address access and travel management issues.

In order to comply with the OHV and motorized access to dispersed camping portions of the Final Travel Management Rule, there is the underlying need for:

• Designating and/or constructing OHV routes and areas (as appropriate) within the identified six areas to provide recreation opportunities;

• Changing the current management direction in the Mt. Hood Land and Resource Management Plan to comply with the Final Travel Management Rule;

• Balancing recreation opportunities for OHV use with other recreational uses of the National Forest and resource sustainability; and

• Designating areas where licensed vehicles will continue to be allowed to drive off roads for the purpose of accessing dispersed camping.

Proposed Action

The Proposed Action will change OHV access through much of the Forest in order to meet the intent of the Final Travel Management Rule. The Proposed Action focuses on travel management within six proposed OHV areas and motorized access to dispersed camping. All National Forest System lands were considered by the Forest Service and members of the public during a two-year long dialogue with the public. The six areas resulted from this dialogue provide a balance between providing recreational opportunities and protecting natural resources as required by the Final Travel Management Rule.

Within each area, specific OHV routes are proposed by motor vehicles class, and new trails are proposed for construction where they would create trail loop opportunities. Through the NEPA planning process, the Forest Service will consider alternative OHV routes within each of the six designated OHV areas. OHV use would be allowed only on these designated routes.

The six areas proposed for OHV use are listed below.

• McCubbins Gulch, Barlow Ranger District.

• Rock Creek, Barlow Ranger District.

• Gibson Prairie, Hood River Ranger District.

• Bear Creek, Hood River Ranger District.

• Peavine, Clackamas Ranger District.

• LaDee Flats, Clackamas Ranger District.

The Forest Service's Proposed Action includes the following features.

• Some roads identified in the Roads Analysis—Mt. Hood National Forest (2003) as decision roads (not needed for management purposes) would be converted to OHV trails and removed from the road system in order to improve the safety of all users.

• New OHV trails would be constructed within these six areas to connect existing roads and trails and to provide loop routes.

• Some decisions roads would be proposed to be closed, if designating nearby routes would cause these roads to become a law enforcement or natural resource problem. Approximately 12 miles of roads are proposed to be closed.

• Mixed-use routes would be proposed in each area. Mixed-use routes allow OHV and licensed motor vehicles to use the same routes.

• Classes of motor vehicles allowed would be designated for all routes.

• An area within the Rock Creek OHV area would have some restrictions on camp fires and overnight dispersed camping.

• A staging area would be identified within each OHV area. The staging area would be a day-use area that serves as a trailhead for motorized recreation. McCubbins Gulch Campground would continue to be the staging area for this OHV area.

In addition to OHV use, motorized access to dispersed camping will be designated for the Forest. Licensed motor vehicles would be allowed to leave the designated road system up to 150-feet from a proposed designated route to access dispersed camping. Some routes are not proposed in order to protect natural resources (e.g., sensitive species) or to comply with existing management direction (e.g., no motorized use in wilderness or some wild and scenic rivers).

A Forest Plan amendment would be required to achieve the purpose and need, and implement the Proposed Action. The Amendment would close all areas and roads to OHV use, unless designated open; and would discontinue all motorized use cross-country use, except allowing licensed motorized access to dispersed camping in designated area.

Interactive electronic maps and route data and other information about the project are available on the Internet at: http://www.fs.fed.us/r6/mthood/projects/. Also, maps of the proposed areas and additional information on the proposal are available by contacting Jennie O'Connor, Mt. Hood National Forest (see above).

Proposed Scoping

As directed by the National Environmental Policy Act (1969), the Forest Service is now seeking comments from individuals, organizations, local and state governments, and other federal agencies that may be interested in or affected by the proposed action. Comments may pertain to the nature and scope of the environmental, social, and economic issues, and possible alternatives to the proposed action. Comments will help the Forest Service assess the proposed action, develop alternatives and prepare a draft environmental impact statement.

The Forest Service will host two open houses to present and answer questions about the proposed action. The meetings are scheduled for September 11, 2007 in Portland from 6 p.m. to 7:30 p.m. and for September 12, 2007 in Hood River from 6 p.m. to 7:30 p.m. Since there will be no formal presentations at the open houses, please feel free to come at any time during the meetings.

Preliminary Issues Identified to Date

The potential for impacts/effects as a result of designating and constructing OHV routes as well as motorized access to dispersed camping are important considerations that need to be addressed in the analysis. The following issues were identified during the preliminary effects analysis and public input in designating the OHV routes, both conducted in 2005.

• Soils: Sedimentation input from the disturbance next to streams. Impacts to cryptobiotic crust, which do not recover quickly.

• Fisheries: Presence of threatened, endangered and sensitive aquatic species. Potential stream crossings by OHVs. Trails located within riparian reserves.

• Botany: Impacts to sensitive plant, fungi, lichen and moss habitat, if users venture off designated routes. Increased potential to spread non-native invasive plants.

• Law enforcement: Capacity to enforce designated OHV routes and ability to keep users to the designated routes.

• Fire and fuels: Increased potential for fire starts, especially at staging areas.

• Recreation: Conflicts between user groups, particularly non-motorized and motorized trail use.

• Social: Increased accidents, noise and crime due to increased OHV use. Potential sanitation problems associated with the more people. Conflicts with local residents.

Alternatives Considered

The No Action alternative will serve as a baseline for comparison of alternatives. This alternative will offer no treatment of affected sites. It will be fully developed and analyzed. The proposed action, as described above will be considered as an alternative. Additional alternatives may be developed around the proposed action to address key issues identified in the scoping and public involvement process.

Estimated Dates for Draft and Final EIS

The draft EIS is expected to be filed with the Environmental Protection Agency (EPA) and to be available for public comment by April 2007. The comment period on the draft EIS will be 45 days from the date the EPA publishes the notice of availability in the Federal Register.

The Forest Service believes, at this early state, it is important to give reviewers notice of several court rulings related to public participation in the environmental review process. First, reviewers of the draft EIS must structure their participation in the environmental review of the proposal so that it is meaningful and alerts an agency to the reviewer's position and contentions. Vermont Yankee Nuclear Power Corp. v. NRDC. 435 U.S. 519.553 (1978). Also, environmental objectives that could be raised at the draft EIS stage but that are not raised until after the completion of the final EIS may be waived or dismissed by the courts. City of Angoon v. Hodel, 803 F. 2d 1016, 1022 (9th Cir. 1986) and Wisconsin Heritage, Inc. v. Harris, 490 F. Supp. 1334 (E.D. Wis. 1980). Because of these court rulings, it is very important that those interested in this proposed action participate by the close of the 45-day comment period; so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of the alternatives formulated and discussed in the statement. Reviewers may wish to refer to the Council on Environmental Quality Regulations for implementing the procedural provisions of the National Environmental Policy Act (40 CFR 1503.3).

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in June 2008. The Responsible Official will be Gary Larsen, Forest Supervisor of the Mt. Hood National Forest. He will consider comments, responses, environmental consequences discussed in the final EIS, and applicable laws, regulations, and policies in making a decision regarding this proposed action. The responsible official will document the decision and rationale for the decision in the Record of Decision. It will be subject to Forest Service Appeal Regulations (36 CFR part 215).

Dated: August 17, 2007.
Gary L. Larsen,
Forest Supervisor, Mt. Hood National Forest.

[FR Doc. 07-4164 Filed 8-24-07; 8:45 am]

BILLING CODE 3410-11-M